COMMITTEE FOR PURCHASE FROM PEOPLE WHO ARE BLIND OR SEVERELY DISABLED

Procurement List Proposed Additions and Deletions

AGENCY: Committee for Purchase From People Who Are Blind or Severely Disabled.

ACTION: Proposed Additions to and Deletions from Procurement List.

SUMMARY: The Committee is proposing to add to the Procurement List commodities and services to be furnished by nonprofit agencies employing persons who are blind or have other severe disabilities, and to delete services previously furnished by such agencies.

COMMENTS MUST BE RECEIVED ON OR BEFORE: July 30, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed additions, the entities of the Federal Government identified in this notice for each commodity or service will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information. The following commodities and services are proposed for addition to Procurement List for production by the nonprofit agencies listed:

Commodities

Custom Planners & Accessory Kit

7510-00-NIB-0565

7510-00-NIB-0566

7510-00-NIB-0567

7510-00-NIB-0568

7510-00-NIB-0569

7510-00-NIB-0570

7510-00-NIB-0571

7510-00-NIB-0572

7510-00-NIB-0573

7510-00-NIB-0574

7510-00-NIB-0575

7510-00-NIB-0576

7510-00-NIB-0577

7510-00-NIB-0578

NPA: The Chicago Lighthouse for People who are Blind or Visually Impaired Chicago, Illinois

Government Agency: GSA/Office Supplies and Paper Products Commodity Center, New York

Cap, Cold Weather

8415-01-099-7843

8415-01-099-7844

8415-01-099-7845

8415-01-099-7846

8415-01-099-7847

8415-01-099-7848

(Remaining 50% of the Government Requirement)

NPA: National Center for Employment of the Disabled, El Paso, Texas

Government Agency: Defense Supply Center-Philadelphia, Philadelphia, Pennsylvania

Tape, Electronic Data

7045-01-357-9939

NPA: North Central Sight Services, Inc., Williamsport, Pennsylvania

Government Agency: Defense Supply Center-Philadelphia, Philadelphia, Pennsylvania

Wipes, Alcohol, TX806 Isopropyl

7045-01-321-7456

NPA: North Central Sight Services, Inc., Williamsport, Pennsylvania

Government Agency: Defense Supply Center-Philadelphia, Philadelphia, Pennsylvania

Services

Administrative Services

Social Security Administration, Sam Nunn Federal Building, Atlanta, Georgia

NPA: Nobis Enterprises, Inc., Marietta, Georgia

Government Agency: Social Security Administration, Atlanta, Georgia

Janitorial/Custodial

VA Medical Center—Outbuildings, #2, 3, 4, 5, 6, 7, 12, 19 and T2, Louisville, Kentucky

NPA: C.G.M. Services, Inc., Louisville, Kentucky

Government Agency: Department of Veterans Affairs, Louisville, Kentucky

Janitorial/Custodial

Aberdeen Proving Ground, Building 4600, Aberdeen, Maryland

NPA: The Chimes, Inc., Baltimore, Maryland

Government Agency: Department of the Army, Aberdeen Proving Ground, Maryland

Janitorial/Custodial

U.S. Department of Agriculture, The Animal and Plant Health Inspection Service, Gulfport, Mississippi

NPA: Mississippi Goodworks, Inc., Gulfport, Mississippi

Government Agency: U.S. Department of Agriculture, Gulfport, Mississippi

Janitorial/Custodial

U.S. Border Patrol Sector Headquarters, Ramey, Puerto Rico

NPA: The Corporate Source, Inc., New York, New York

Government Agency: Department of Justice, INS, Burlington, Vermont

Janitorial/Custodial

At the following Exchanges

Norfolk Naval Base, Norfolk, Virginia

Norfolk Naval Shipyard, Portsmouth, Virginia

Oceana Naval Air Station, Virginia Beach, Virginia

Dam Neck Fleet Combat Training Center Atlantic, Virginia Beach, Virginia

Little Creek Naval Amphibious Base, Norfolk, Virginia

NPA: Community Alternatives, Inc., Virginia Beach, Virginia

Government Agency: Navy Exchange Service Command (NEXCOM), Virginia Beach, Virginia

Janitorial/Custodial

U.S. Army Reserve Center, 4828 West Silver Spring Drive, Milwaukee, Wisconsin

NPA: Milwaukee Center for Independence, Inc., Milwaukee, Wisconsin

Government Agency: 88th Regional Command, Fort Snelling, Minnesota

Laundry Service

Fort Lee, Virginia

NPA: Louise W. Eggleston Center, Inc., Norfolk, Virginia

Government Agency: Department of the Army, Fort Lee, Virginia

Mailroom and Records Management Services

Langley Air Force Base, Virginia

NPA: Association for Retarded Citizens of the Peninsula, Inc., Hampton, Virginia

Government Agency: Department of the Air Force, Langley Air Force Base, Virginia

Operation of Self Service Supply Store

General Services Administration

Sam Nunn Federal Center, Atlanta, Georgia

NPA: Raleigh Lions Clinic for the Blind, Inc., Raleigh, North Carolina

Government Agency: General Services Administration, Atlanta, Georgia

Warehousing

U.S. Army Logistics Management College (ALMC), Fort Lee, Virginia

NPA: Richmond Area Association for Retarded Citizens, Richmond, Virginia

Government Agency: U.S. Army Logistics Management College, Fort Lee, Virginia

Deletions

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following services are proposed for deletion from the Procurement List:

Services

Janitorial/Custodial

U.S. Army Reserve Center, 2800 Crestline Road, Fort Worth, Texas

Janitorial/Custodial

U.S. Army Reserve Center, 2513-15 Gravel Road, Fort Worth, Texas

Louis R. Bartalot,
Director, Program Analysis and Evaluation.

[FR Doc. 01-16461 Filed 6-28-01; 8:45 am]

BILLING CODE 6353-01-P